DEPARTMENT OF ENERGY

Federal Energy Regulatory Commission

Notice of Intent To File Application for New License

July 14, 2005.

a. Type of Filing: Notice of intent to file application for a new license.

b. Project No.: 606.

c. Date Filed: June 27, 2005.

d. Submitted by: Synergics Energy Services, LLC.

e. Name of Project: Kilarc-Cow Creek Project.

f. Location: On Old Cow Creek and South Cow Creek in Shasta County, California.

g. Filed Pursuant to: Section 15 of the Federal Power Act; 18 CFR 16.6 of the Commission's regulations. Pursuant to 18 CFR 16.25, the Commission solicited applications from potential applicants for the Kilarc-Cow Creek project when the current licensee, Pacific Gas & Electric Co., did not file a new license application for the project by the March 27, 2005 deadline. Potential applicants had 90 days (ending July 5, 2005) to file a Notice of Intent to file an application for a new license for P-606.

h. Expiration Date of Current License: March 27, 2007.

i. The project consists of two separate operating projects. The first, the Kilarc facility, consists of: (1) North Canyon Creek diversion and canal; (2) South Canyon Creek diversion dam and canal; (3) Canyon Creek siphon; (4) Kilarc diversion dam main canal; (5) Kilarc forebay dam; (6) Kilarc forebay, penstock, and powerhouse. The second, the Cow Creek facility, consists of: (1) Mill Creek diversion dam and Mill Creek-South Cow Creek canal; (2) South Cow Creek diversion dam and main canal; (3) Cow Creek forebay dam; (4) Cow Creek forebay, penstock, and powerhouse.

j. Pursuant to 18 CFR 16.7, Information on the Project is Available at: Whitmore Public Library, 30611 Whitmore Road, Whitmore, CA, 96096.

k. FERC Contact: Emily Carter, 202-502-6512, emily.carter@ferc.gov.

l. Licensee Contact: Arthur Hagood, Synergics Energy Services, LLC, 191 Main Street, Annapolis, Maryland, 21401.

m. The applicant states its unequivocal intent to submit an application for a new license for Project No. 606. Pursuant to Part I of the Federal Power Act and Part 4 (except section 4.38) of the Commission's regulations, the application for license for this project must be filed with the Commission within 18 months of the date on which the applicant files its notice and must comply with the requirements of 18 CFR 16.8 and 16.10 of the Commissions Regulations. The applicant filed their Notice of Intent to file an application for new license for P-606 on June 27, 2005 and the application for license for this project must be filed by December 27, 2006.

n. A copy of this filing is available for review at the Commission in the Public Reference Room or may be viewed on the Commission's Web site at http://www.ferc.gov using the “eLibrary” link. Enter the docket number in the docket number field to access the document. For assistance, contact FERC Online Support at FERCOnlineSupport@ferc.gov or toll-free at 1-866-208-3676, or TTY 202-502-8659. A copy is also available for inspection and reproduction at the address in item k above.

o. Register online at http://www.ferc.gov/docs-filing/esubscription.asp to be notified via email of new filings and issuances related to this or other pending projects. For assistance, contact FERC Online Support as shown in the paragraph above.

p. By this notice, the Commission is seeking corrections and updates to the attached mailing list for the Kilarc-Cow Creek Project. Updates should be filed with Magalie R. Salas, Secretary, Federal Energy Regulatory Commission, 888 First Street, NE., Washington, DC 20426.

Linda Mitry,
Deputy Secretary.

[FR Doc. E5-3879 Filed 7-20-05; 8:45 am]

BILLING CODE 6717-01-P